DEPARTMENT OF VETERANS AFFAIRS

[OMB Control No. 2900-New (22-0839)]

Agency Information Collection: Emergency Submission for OMB (Yellow Ribbon) Review; Comment Request

AGENCY: Veterans Benefits Administration, Department of Veterans Affairs.

ACTION: Notice.

SUMMARY: In compliance with the Paperwork Reduction Act (PRA) of 1995 (44 U.S.C. 3501-3521), this notice announces that the United States Department of Veterans Affairs (VA), has submitted to the Office of Management and Budget (OMB) the following emergency proposal for the collection of information under the provisions of the Paperwork Reduction Act (44 U.S.C. 3507(j)(1)). The reason for the emergency clearance is to determine which institutions of higher learning (IHLs) will be participating in the Yellow Ribbon Program, the maximum number of individuals for whom the IHL will make contributions in any given academic year, and the percentage of outstanding established charges the IHL will agree to waive. OMB has been requested to act on this emergency clearance request by December 31, 2008.

DATES: Comments must be submitted on or before November 17, 2008.

ADDRESSES: Submit written comments on the collection of information through www.Regulations.gov or to VA's OMB Desk Officer, OMB Human Resources and Housing Branch, New Executive Office Building, Room 10235, Washington, DC 20503, (202) 395-7316. Please refer to “OMB Control No. 2900-New (22-0839)” in any correspondence

FOR FURTHER INFORMATION CONTACT: Denise McLamb, Records Management Service (005R1B), Department of Veterans Affairs, 810 Vermont Avenue, NW., Washington, DC 20420, (202) 461-7485, FAX (202) 273-0443 or e-mail denise.mclamb@va.gov. Please refer to “OMB Control No. 2900-New (22-0839).”

SUPPLEMENTARY INFORMATION: Title: Yellow Ribbon Agreement (Under Title 38 U.S.C. Chapter 33), VA Form 22-0839.

OMB Control Number: 2900-New (22-0839).

Type of Review: New collection.

Abstract: Public Law 110-252 created a new educational assistance benefit, chapter 33, which contains provisions that requires VA to collect information in order to administer the Yellow Ribbon Program (authorized under the new benefit). Title 38 U.S.C. 3317 requires VA to enter into an agreement with schools wishing to participate in Yellow Ribbon Program. The agreement must state the beginning and ending dates of the academic year for which the school will waive costs under the Yellow Ribbon Program, the maximum number of individuals for whom the school will make contributions in the specified academic year, and the percentage of outstanding established charges the school will waive for each Yellow Ribbon participant in the specified academic year. VA is required to match each additional dollar waived by the school not to exceed 50 percent of the outstanding established charges. The statute further requires that VA post the information on a Web site for public viewing. In order to have sufficient time to post the information on the Web site (after processing received requests) and amend/update systems to issue Yellow Ribbon payments, VA will issue requests for participation in December of each calendar year and require that schools provide responses no later than February 15th of the following year.

Affected Public: Business or other for profit and not for profit institutions.

Estimated Annual Burden: 750 hours.

Estimated Average Burden per Respondent: 10 minutes.

Frequency of Response: One time per year.

Estimated Number of Respondents: 4,500.

Dated: October 24, 2008.
By direction of the Secretary.
Denise McLamb,
Program Analyst, Records Management Service.

[FR Doc. E8-26127 Filed 10-31-08; 8:45 am]

BILLING CODE 8320-01-P